DEPARTMENT OF LABOR

Office of the Secretary

Submission for OMB Review; Comment Request

May 30, 2001.

The Department of Labor (DOL) has submitted the following public information collection requests (ICRs) to the Office of Management and Budget (OMB) for review and approval in accordance with the Paperwork Reduction Act of 1995 (Pub. L. 104-13, 44 U.S.C. Chapter 35). A copy of this ICR, with applicable supporting documentation, may be obtained by calling the Department of Labor. To obtain documentation contact Darrin King at (202) 693-4129 or E-Mail King-Darrin@dol.gov.

Comments should be sent to Office of Information and Regulatory Affairs, Attn: OMB Desk Officer for ETA, Office of Management and Budget, Room 10235, Washington, DC 20503 ((202) 395-7316), within 30 days from the date of this publication in the Federal Register.

The OMB is particularly interested in comments which:

• Evaluate whether the proposed collection of information is necessary for the proper performance of the functions of the agency, including whether the information will have practical utility;

• Evaluate the accuracy of the agency's estimate of the burden of the proposed collection of information, including the validity of the methodology and assumptions used;

• Enhance the quality, utility, and clarity of the information to be collected; and

• Minimize the burden of the collection of information on those who are to respond, including through the use of appropriate automated, electronic, mechanical, or other technological collection techniques or other forms of information technology, e.g., permitting electronic submission of responses.

Agency: Employment and Training Administration (ETA).

Type of Review: New collection.

OMB Number: 1205-0NEW.

Title: Placement Verification and Follow-up of Job Corps Participants.

Affected Public: Individuals or households; Business or other for-profit.

Number of Respondents: 36,088.

Respondent category | Annual responses | Frequency | Average time per response (minutes) | Burden hours
Placed Former Enrollees at 90 Days | 6,020 | One time | 15 | 1,505
Placed Graduated at 90-120 Days | 26,400 | One time | 15 | 6,600
Non-Placed Former Enrollees at 90 Days | 1,330 | One time | 10 | 226
Non-Placed Graduates at 12 Months | 1,365 | One time | 10 | 228
Placed Graduates at 6 Months | 24,640 | One time | 12 | 4,928
Placed Graduates at 12 Months | 23,000 | One time | 10 | 3,833
Employer/Institution Re-verification | 973 | On occasion | 10 | 165
Totals | 83,728 |  |  | 17,485

Total Annualized Capital/Startup Costs: $0.

Total Annual Costs (operating/maintaining systems or purchasing services): $0.

Description: The Department of Labor is requesting approval of three data collection instruments that will be used to collect follow-up data on individuals who are no longer actively participating in Job Corps. The instruments are comprised of modules that include questions designed to obtain the following information: re-verification of initial job and/or school placements; employment and educational experiences; job search activities of those who are neither working nor in school; and information about former participants' satisfaction with the services provided by Job Corps.

Darrin A. King,
Acting Departmental Clearance Officer.

[FR Doc. 01-14427 Filed 6-7-01; 8:45 am]

BILLING CODE 4510-30-M